DEPARTMENT OF HOMELAND SECURITY

Federal Emergency Management Agency

44 CFR Part 67

Final Flood Elevation Determinations

AGENCY: Federal Emergency Management Agency, DHS.

ACTION: Final rule; correction.

SUMMARY: On May 16, 2008, FEMA published in the Federal Register a final rule that contained an erroneous table. This notice provides corrections to that table, to be used in lieu of the information published at 73 FR 28352. The table provided here represents the flooding source, location of referenced elevation, modified elevation, and communities affected for Cabarrus County and Incorporated Areas. Specifically, it addresses flooding source Muddy Creek.

FOR FURTHER INFORMATION CONTACT: William R. Blanton, Jr., Chief, Engineering Management Branch, Mitigation Directorate, Federal Emergency Management Agency, 500 C Street SW., Washington, DC 20472, (202) 646-3151 or (e-mail) bill.blanton@dhs.gov.

SUPPLEMENTARY INFORMATION: The Federal Emergency Management Agency (FEMA) publishes final determinations of Base (1% annual-chance) Flood Elevations (BFEs) and modified BFEs for communities participating in the National Flood Insurance Program (NFIP), in accordance with section 110 of the Flood Disaster Protection Act of 1973, 42 U.S.C. 4104, and 44 CFR 67.4(a).

These final BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These final elevations are used to meet the floodplain management requirements of the NFIP and are also used to calculate the appropriate flood insurance premium rates for new buildings built after these elevations are made final, and for the contents in these buildings.

Correction

In the final rule published at 73 FR 28352, in the May 16, 2008, issue of the Federal Register, FEMA published a table under the authority of 44 CFR 67.4. The table, entitled “Cabarrus County and Incorporated Areas” addressed flooding source Muddy Creek. That table contained inaccurate information as to the location of referenced elevation, modified elevation in feet, or communities affected for these flooding sources. In this notice, FEMA is publishing a table containing the accurate information, to address these prior errors. The information provided below should be used in lieu of that previously published.

Flooding source(s) | Location of referenced elevation ** | * Elevation in feet (NGVD) + Elevation in feet (NAVD) # Depth in feet above ground: Modified | Communities affected
Cabarrus County and Incorporated Areas
FEMA Docket Nos.: FEMA-B-7718, FEMA-B-7736, FEMA-D-7820, and FEMA-B-7752
Muddy Creek | At the confluence with Rocky River | +478 | Unincorporated Areas of Cabarrus County, Town of Midland.
| At the confluence of Muddy Creek Tributary 1 | +492

Dated: June 10, 2008.
David I. Maurstad,
Federal Insurance Administrator of the National Flood Insurance Program, Department of Homeland Security, Federal Emergency Management Agency.

[FR Doc. E8-13933 Filed 6-19-08; 8:45 am]

BILLING CODE 9110-12-P